DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: State-by-State Self Assessment of Trauma Care Systems—(NEW)

The Health Resources and Services Administration (HRSA) proposes to collect baseline data from the 56 States and Territories on their current trauma care systems and self-identified unmet needs to achieve minimum standards for a comprehensive statewide trauma care program. This information will be used to establish a national strategy to assist in future grant opportunities to the States to improve or enhance their basic systems infrastructure in trauma care. The survey includes an assessment of trauma care systems, readiness to participate in disaster relief efforts, and infrastructure development needs. HRSA's Maternal and Child Health Bureau (MCHB) and the Office of Rural Health Policy and the Department of Transportation's Emergency Medical Services Division are jointly administering this project. HRSA has included national performance measures for Trauma/EMS for this project in accordance with the requirements of the “Government Performance and Results Act (GPRA) of 1993” (Public Law 103-62). This act requires the establishment of measurable goals for Federal programs that can be reported as part of the budgetary process, thus linking funding decisions with performance.

The estimated response burden is as follows:

Type of form | Number of respondents | Responses per respondent | Burden hour per response | Total burden hours
Trauma Survey | 54 | 1 | 9 | 486
Analysis | 54 | 1 | 1 | 54
Disaster Module | 54 | 1 | 9 | 486
Total | 54 | 3 |  | 1026

Written comments and recommendations concerning the proposed information collection should be sent within 30 days of this notice to: John Morrall, Human Resources and Housing Branch, Office of Management and Budget, New Executive Office Building, Room 10235, Washington, DC 20503.

Dated: October 25, 2001.
Jane M. Harrison,
Director, Division of Policy Review and Coordination.

[FR Doc. 01-27367 Filed 10-30-01; 8:45 am]

BILLING CODE 4165-15-P